DEPARTMENT OF TRANSPORTATION

Federal Motor Carrier Safety Administration

[Docket No. FMCSA-2014-0004]

Qualification of Drivers; Exemption Applications; Vision

AGENCY: Federal Motor Carrier Safety Administration (FMCSA), DOT.

ACTION: Notice of applications for exemptions; request for comments.

SUMMARY: FMCSA announces receipt of applications from 66 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before May 1, 2014.

ADDRESSES: You may submit comments bearing the Federal Docket Management System (FDMS) Docket No. FMCSA-2014-0004 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the Federal Docket Management System (FDMS) published in the Federal Register on January 17, 2008 (73 FR 3316).

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 66 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Britton J. Anderson

Mr. Anderson, age 22, has had amblyopia in his left eye since birth. The visual acuity in his right eye is 20/20, and in his left eye, 20/60. Following an examination in 2014, his optometrist stated, “I certify this individual has sufficient vision to perform the driving tasks required to operate a commercial vehicle.” Mr. Anderson reported that he has driven straight trucks for 3 years, accumulating 8,190 miles, and tractor-trailer combinations for 3 years, accumulating 19,110 miles. He holds a Class A commercial driver's license (CDL) from Kansas. His driving record for the last 3 years shows no crashes and no convictions for moving violations in a CMV.

Rodney R. Anderson

Mr. Anderson, 58, has had a central scar in his right eye since 1974. The visual acuity in his right eye is 20/400, and in his left eye, 20/20. Following an examination in 2014, his optometrist stated, “Mr. Anderson has sufficient vision to drive commercial vehicles.” Mr. Anderson reported that he has driven tractor-trailer combinations for 40 years, accumulating 5.6 million miles. He holds a Class AM CDL from Pennsylvania. His driving record for the last 3 years shows no crashes and no convictions for moving violations in a CMV.

Kenneth R. Anselm

Mr. Anselm, 66, has had ocular histoplasmosis in his right eye since 1993. The visual acuity in his right eye is 20/70, and in his left eye, 20/20. Following an examination in 2013, his optometrist stated, “It is my medical opinion that Mr. Kenneth Anselm has sufficient vision to perform the driving tasks required to operate a commercial vehicle.” Mr. Anselm reported that he has driven straight trucks for 30 years, accumulating 750,000 miles. He holds an operator's license from Kentucky. His driving record for the last 3 years shows no crashes and no convictions for moving violations in a CMV.

James E. Baker

Mr. Baker, 49, has a prosthetic right eye due to a traumatic incident in 1999. The visual acuity in his right eye is no light perception, and in his left eye, 20/15. Following an examination in 2013, his optometrist stated, “I feel that this patient can visually operate a commercial vehicle safely.” Mr. Baker reported that he has driven tractor-trailer combinations for 15 years, accumulating 1.65 million miles. He holds a Class A CDL from Ohio. His driving record for the last 3 years shows 1 crash, for which he was not cited, and 1 conviction for a moving violation in a CMV; he exceeded the posted speed limit.

Alphonso A. Barco

Mr. Barco, 41, has had a corneal scar in his left eye since childhood. The visual acuity in his right eye is 20/20, and in his left eye, 20/200. Following an examination in 2014, his optometrist stated, “In my professional opinion Mr. Barco has sufficient vision to operate a commercial vehicle.” Mr. Barco reported that he has driven straight trucks for 5 years, accumulating 150,000 miles. He holds a Class B CDL from South Carolina. His driving record for the last 3 years shows no crashes and no convictions for moving violations in a CMV.

Aaron D. Barnett

Mr. Barnett, 37, has had strabismic amblyopia in his left eye since birth. The visual acuity in his right eye is 20/20, and in his left eye, 20/200. Following an examination in 2013, his optometrist stated, “In my medical opinion, Aaron has sufficient vision to perform the driving tasks required to operate a commercial vehicle.” Mr. Barnett reported that he has driven straight trucks for 7 years, accumulating 102,200 miles, and tractor-trailer combinations for 7 years, accumulating 14,000 miles. He holds a Class A CDL from Iowa. His driving record for the last 3 years shows no crashes and no convictions for moving violations in a CMV.

Daniel W. Bobb

Mr. Bobb, 38, has had a corneal ulcer in his left eye since 2001. The visual acuity in his right eye is 20/20, and in his left eye, 20/100. Following an examination in 2013, his ophthalmologist stated, “In my medical opinion, there is sufficient vision to operate a commercial vehicle from here to California and back without any limits other than imposed by the D.O.T. [sic] for sleep.” Mr. Bobb reported that he has driven straight trucks for 12 years, accumulating 24,000 miles, tractor-trailer combinations for 12 years, accumulating 600,000 miles, and buses for 5 years, accumulating 75,000 miles. He holds a Class AM CDL from Pennsylvania. His driving record for the last 3 years shows no crashes and no convictions for moving violations in a CMV.

Anatoliy A. Bogdanets

Mr. Bogdanets, 55, has had lens opacity in his left eye since birth. The visual acuity in his right eye is 20/20, and in his left eye, hand motion. Following an examination in 2013, his optometrist stated, “Vision Loss [sic] OS should not impair ability to drive with a [sic] commercial vehicle safely.” Mr. Bogdanets reported that he has driven tractor-trailer combinations for 2.5 years, accumulating 540,000 miles. He holds a Class A CDL from Oregon. His driving record for the last 3 years shows no crashes and no convictions for moving violations in a CMV.

Stanley R. Cap

Mr. Cap, 78, has had a macular scar in his right eye since 2005. The visual acuity in his right eye is 20/200, and in his left eye, 20/30. Following an examination in 2013, his optometrist stated, “I certify that, in my medical opinion, this patient has sufficient vision to operate a commercial motor vehicle.” Mr. Cap reported that he has driven straight trucks for 10 years, accumulating 200,000 miles, and tractor-trailer combinations for 60 years, accumulating 1.5 million miles. He holds a Class A CDL from South Dakota. His driving record for the last 3 years shows no crashes and no convictions for moving violations in a CMV.

Louis Castro

Mr. Castro, 33, has had amblyopia in his right eye since birth. The visual acuity in his right eye is 20/50, and in his left eye, 20/15. Following an examination in 2014, his optometrist stated, “Vision is sufficient to perform CMV driving task day and night.” Mr. Castro reported that he has driven straight trucks for 8 years, accumulating 108,000 miles, and tractor-trailer combinations for 1 year, accumulating 12,000 miles. He holds a Class A CDL from Montana. His driving record for the last 3 years shows no crashes and no convictions for moving violations in a CMV.

David F. Cialdea

Mr. Cialdea, 55, has a cataract in his left eye due to a traumatic incident in childhood. The visual acuity in his right eye is 20/25, and in his left eye, no light perception. Following an examination in 2013, his ophthalmologist stated, “Mr. David Cialdea had trauma to his left eye resulting in a traumatic cataract . . . I see no reason in my medical opinion that he could not operate a commercial vehicle.” Mr. Cialdea reported that he has driven straight trucks for 40 years, accumulating 700,000 miles, and tractor-trailer combinations for 2 years, accumulating 2,000 miles. He holds a Class A CDL from Massachusetts. His driving record for the last 3 years shows no crashes and no convictions for moving violations in a CMV.

Bobby E. Collins

Mr. Collins, 51, has had amblyopia in his right eye since childhood. The visual acuity in his right eye is 20/400, and in his left eye, 20/20. Following an examination in 2013, his ophthalmologist stated, “I certify the Mr. Collins has sufficient vision to perform the driving tasks required to operate a commercial vehicle.” Mr. Collins reported that he has driven straight trucks for 5 years, accumulating 175,000 miles, and tractor-trailer combinations for 5 years, accumulating 250,000 miles. He holds a Class A CDL from North Carolina. His driving record for the last 3 years shows no crashes and no convictions for moving violations in a CMV.

Michael T. Craddock

Mr. Craddock, 52, has had amblyopia in his right eye since birth. The visual acuity in his right eye is 20/300, and in his left eye, 20/20. Following an examination in 2013, his optometrist stated, “Pt [sic] is not color blind and in my opinion, should be able to drive a commercial vehicle safely.” Mr. Craddock reported that he has driven tractor-trailer combinations for 1 year, accumulating 120,000 miles. He holds a Class A CDL from California. His driving record for the last 3 years shows no crashes and no convictions for moving violations in a CMV.

Eric C. Dettrey

Mr. Dettrey, 49, has a prosthetic left eye due to a traumatic incident in childhood. The visual acuity in his right eye is 20/20, and in his left eye, no light perception. Following an examination in 2013, his optometrist stated, “Eric has excellent correctable vision in his right eye, sufficient to operate a commercial vehicle.” Mr. Dettrey reported that he has driven straight trucks for 26 years, accumulating 26,000 miles, and tractor-trailer combinations for 26 years, accumulating 26,000 miles. He holds a Class A CDL from New Jersey. His driving record for the last 3 years shows no crashes and no convictions for moving violations in a CMV.

Dean E. Dexter

Mr. Dexter, 71, has had amblyopia in his right eye since childhood. The visual acuity in his right eye is 20/200, and in his left eye, 20/20. Following an examination in 2014, his optometrist stated, “It is my opinion Mr. Dexter has sufficient vision to perform the driving tasks required to operate a commercial vehicle.” Mr. Dexter reported that he has driven tractor-trailer combinations for 40 years, accumulating 5 million miles. He holds a Class A3 CDL from South Dakota. His driving record for the last 3 years shows no crashes and one conviction for a moving violation in a CMV; he exceeded the speed limit by 6 mph.

Blaine R. Dickman

Mr. Dickman, 57, has had a prosthetic right eye since childhood. The visual acuity in his right eye is no light perception, and in his left eye, 20/20. Following an examination in 2013, his optometrist stated that Mr. Dickman's condition will not affect his ability to drive a motor vehicle safely and the he should be issued a commercial medical waiver and be permitted to drive a commercial motor vehicle on an intrastate basis. Mr. Dickman reported that he has driven buses for 15 years, accumulating 82,500 miles. He holds a Class B CDL from Nevada. His driving record for the last 3 years shows no crashes and no convictions for moving violations in a CMV.

David C. Dockery

Mr. Dockery, 49, has had a macular scar in his left eye since 2000. The visual acuity in his right eye is 20/20, and in his left eye, counting fingers. Following an examination in 2014, his ophthalmologist stated, “Mr. Dockery has a visual acuity of 20/20 in the right eye and count [sic] fingers at one foot in the left eye . . . I believe he is safe to operate a commercial vehicle.” Mr. Dockery reported that he has driven tractor-trailer combinations for 24 years, accumulating 1.8 million miles. He holds a Class A CDL from California. His driving record for the last 3 years shows no crashes and no convictions for moving violations in a CMV.

Timothy C. Dotson

Mr. Dotson, 46, has a prosthetic left eye due to a traumatic incident in 1998. The visual acuity in his right eye is 20/20, and in his left eye, no light perception. Following an examination in 2013, his optometrist stated, “It is my opinion that Mr. Dotson possesses adequate vision to operate a commercial motor vehicle safely.” Mr. Dotson reported that he has driven tractor-trailer combinations for 28 years, accumulating 3.08 million miles. He holds a Class A CDL from Missouri. His driving record for the last 3 years shows no crashes and no convictions for moving violations in a CMV.

Barent H. Eliason

Mr. Eliason, 44, has a macular scar in his left eye due to a traumatic incident during childhood. The visual acuity in his right eye is 20/20, and in his left eye, 20/200. Following an examination in 2013, his optometrist stated, “He is able in my opinion to operate and maintain a commercial vehicle, and perform the driving tasks required.” Mr. Eliason reported that he has driven straight trucks for 23 years, accumulating 402,500 miles, and tractor-trailer combinations for 23 years, accumulating 276,000 miles. He holds a Class A CDL from Missouri. His driving record for the last 3 years shows no crashes and no convictions for moving violations in a CMV.

Peter D. J. Ensor

Mr. Ensor, 71, has had congenital amblyopia in his left eye since birth. The visual acuity in his right eye is 20/25, and in his left eye, 20/400. Following an examination in 2014, his optometrist stated, “I, Dr. Nguyen Ly, certifies [sic] Peter Ensor has sufficient vision to perform the driving tasks required to operate a commercial vehicle.” Mr. Ensor reported that he has driven straight trucks for 53 years, accumulating 424,000 miles. He holds an operator's license from Maryland. His driving record for the last 3 years shows no crashes and no convictions for moving violations in a CMV.

Paul W. Fettig

Mr. Fettig, 39, has had optic nerve damage in his right eye since childhood. The visual acuity in his right eye is hand motion, and in his left eye, 20/20. Following an examination in 2014, his optometrist stated, “Based on my examination on 2/10/2014, it is my opinion that Mr. Fettig's optic nerve damage is stable. . .In my professional opinion, I feel the Mr. Fettig is fully capable of safely operating a commercial vehicle.” Mr. Fettig reported that he has driven straight trucks for 17 years, accumulating 850,000 miles. He holds a Class B CDL from South Dakota. His driving record for the last 3 years shows no crashes and no convictions for moving violations in a CMV.

Roger L. Frazier

Mr. Frazier, 50, has a macular scar in his left eye due to a traumatic incident in 1997. The visual acuity in his right eye is 20/20, and in his left eye, 20/70. Following an examination in 2014, his ophthalmologist stated, “Roger Frazier is currently a patient at Graystone Eye. He has a history significant for a macular scar from multiple retinal surgeries of the left eye. . .It is my medical opinion that he should still be able to maintain a commercial drivers' [sic] license.” Mr. Frazier reported that he has driven straight trucks for 14 years, accumulating 126,000 miles. He holds an operator's license from North Carolina. His driving record for the last 3 years shows no crashes and no convictions for moving violations in a CMV.

Joey W. Freeman

Mr. Freeman, 52, has had amblyopia in his left eye since childhood. The visual acuity in his right eye is 20/20, and in his left eye, 20/50. Following an examination in 2013, his optometrist stated, “In my professional opinion Mr. Freeman has sufficient vision to operate a commercial vehicle.” Mr. Freeman reported that he has driven straight trucks for 40 years, accumulating 400,000 miles. He holds an operator's license from Arkansas. His driving record for the last 3 years shows no crashes and no convictions for moving violations in a CMV.

Kevin L. Fritz

Mr. Fritz, 35, has had a macular scar in his left eye since childhood. The visual acuity in his right eye is 20/15, and in his left eye, 20/100. Following an examination in 2013, his optometrist stated, “In my opinion, Kevin has sufficient vision to perform the driving tasks required to operate a commercial vehicle.” Mr. Fritz reported that he has driven straight trucks for 15 years, accumulating 120,000 miles. He holds a Class AM CDL from Illinois. His driving record for the last 3 years shows no crashes and no convictions for moving violations in a CMV.

Grant G. Gibson

Mr. Gibson, 42, has had amblyopia in his left eye since birth. The visual acuity in his right eye is 20/15, and in his left eye, counting fingers. Following an examination in 2013, his optometrist stated, “In my opinion, Mr. Gibson has sufficient vision to perform the driving tasks required to operate a commercial vehicle.” Mr. Gibson reported that he has driven straight trucks for 9 years, accumulating 304,200 miles. He holds a Class B CDL from Minnesota. His driving record for the last 3 years shows no crashes and no convictions for moving violations in a CMV.

Danny J. Goss

Mr. Goss, 54, has complete loss of vision in his left eye due to a traumatic incident during childhood. The visual acuity in his right eye is 20/20, and in his left eye, light perception. Following an examination in 2013, his optometrist stated, “I certify that, in my medical opinion, this patient has sufficient vision to operate a commercial motor vehicle.” Mr. Goss reported that he has driven straight trucks for 35 years, accumulating 70,000 miles. He holds a Class B CDL from Missouri. His driving record for the last 3 years shows no crashes and no convictions for moving violations in a CMV.

Todd C. Grider

Mr. Grider, 33, has a prosthetic right eye due to a traumatic incident in childhood. The visual acuity in his right eye is no light perception, and in his left eye, 20/15. Following an examination in 2013, his optometrist stated, “In my professional medical opinion Mr. Grider meets the visual requirements needed to perform driving tasks required to operate a commercial vehicle.” Mr. Grider reported that he has driven straight trucks for 8 years, accumulating 344,000 miles. He holds an operator's license from Indiana. His driving record for the last 3 years shows no crashes and no convictions for moving violations in a CMV.

James P. Griffin

Mr. Griffin, 67, has optic nerve damage in his right eye due to a traumatic incident during childhood. The visual acuity in his right eye is 20/60, and in his left eye, 20/20. Following an examination in 2013, his optometrist stated, “In my professional opinion, Mr. Griffin has more than sufficient vision to operate a commercial vehicle as he has done safely for 10 years.” Mr. Griffin reported that he has driven straight trucks for 6.25 years, accumulating 390,625 miles, and tractor-trailer combinations for 2 years, accumulating 250,000 miles. He holds a Class A CDL from Washington. His driving record for the last 3 years shows no crashes and 1 conviction for a moving violation in a CMV; he was following another vehicle too closely.

Dennis P. Hart

Mr. Hart, 58, has had amblyopia in his right eye since birth. The visual acuity in his right eye is 20/200, and in his left eye, 20/20. Following an examination in 2013, his ophthalmologist stated, “In my opinion Mr. Hart is safe to operate a commercial vehicle with his current level of vision.” Mr. Hart reported that he has driven straight trucks for 39 years, accumulating 39,000 miles, and tractor-trailer combinations for 5 years, accumulating 1,500 miles. He holds a Class A CDL from Oregon. His driving record for the last 3 years shows no crashes and no convictions for moving violations in a CMV.

Kyle C. Holschlag

Mr. Holschlag, 23, has had amblyopia in his left eye since childhood. The visual acuity in his right eye is 20/20, and in his left eye, 20/70. Following an examination in 2013, his optometrist stated, “In my opinion, Mr. Holschlag has sufficient vision to perform all of the driving and tasks required to operate a commercial vehicle.” Mr. Holschlag reported that he has driven straight trucks for 0.5 years, accumulating 400 miles, tractor-trailer combinations for 3 years, accumulating 15,000 miles. He holds a Class A CDL from Iowa. His driving record for the last 3 years shows no crashes and no convictions for moving violations in a CMV.

Michael T. Huso

Mr. Huso, 52, has had a macular lesion in his right eye since 2006. The visual acuity in his right eye is 20/400, and in his left eye, 20/25. Following an examination in 2014, his optometrist stated, “In my opinion Michael has sufficient vision to perform the driving tasks required to operate a commercial vehicle.” Mr. Huso reported that he has driven straight trucks for 5 years, accumulating 300,000 miles, tractor-trailer combinations for 27 years, accumulating 2.03 million miles. He holds a Class A CDL from Minnesota. His driving record for the last 3 years shows no crashes and no convictions for moving violations in a CMV.

Earl E. Kennedy III

Mr. Kennedy, 39, has had congenital amblyopia in his left eye since birth. The visual acuity in his right eye is 20/20, and in his left eye, 20/100. Following an examination in 2013, his optometrist stated, “In my medical opinion, Mr. Kennedy has sufficient vision to perform the tasks required to operate a commercial vehicle.” Mr. Kennedy reported that he has driven straight trucks for 13 years, accumulating 19,500 miles, and tractor-trailer combinations for 13 years, accumulating 32,500 miles. He holds an operator's license from Pennsylvania. His driving record for the last 3 years shows no crashes and no convictions for moving violations in a CMV.

James D. Kessler

Mr. Kessler, 49, has a corneal laceration in his right eye due to a traumatic incident in childhood. The visual acuity in his right eye is counting fingers, and in his left eye, 20/15. Following an examination in 2014, his optometrist stated, “From my examination with Jim Kessler, it is my medical opinion that he has sufficient vision to drive and operate a commercial vehicle.” Mr. Kessler reported that he has driven straight trucks for 35 years, accumulating 35,000 miles, and tractor-trailer combinations for 18 years, accumulating 2.16 million miles. He holds a Class A CDL from South Dakota. His driving record for the last 3 years shows no crashes and no convictions for moving violations in a CMV.

Eric W. Kopmann

Mr. Kopmann, 29, has had scar tissue in his left eye since 2002. The visual acuity in his right eye is 20/20, and in his left eye, 20/50. Following an examination in 2014, his optometrist stated, “In my opinion Eric has sufficient vision to operate a commercial vehicle.” Mr. Kopmann reported that he has driven straight trucks for 4 years, accumulating 2,000 miles. He holds a Class B CDL from Missouri. His driving record for the last 3 years shows no crashes and no convictions for moving violations in a CMV.

Robin D. Kurtz

Mr. Kurtz, 52, has had amblyopia in his right eye since birth. The visual acuity in his right eye is 20/70, and in his left eye, 20/25. Following an examination in 2013, his optometrist stated, “In my opinion, Mr [sic] Robin D. Kurtz has sufficient vision to perform the driving tasks required to operate a commercial vehicle.” Mr. Kurtz reported that he has driven straight trucks for 30 years, accumulating 2.4 million miles. He holds a Class A CDL from Connecticut. His driving record for the last 3 years shows no crashes and no convictions for moving violations in a CMV.

Sherell J. Landry

Mr. Landry, 65, has had refractive amblyopia in his left eye since birth. The visual acuity in his right eye is 20/20, and in his left eye, 20/80. Following an examination in 2013, his optometrist stated, “As a result of our testing and evaluation, in my medical opinion Mr. Landry has sufficient vision to perform the driving tasks required to operate a commercial vehicle.” Mr. Landry reported that he has driven straight trucks for 6 months, accumulating 10,000 miles, and tractor-trailer combinations for 20 years, accumulating 500,000 miles. He holds a Class A CDL from Texas. His driving record for the last 3 years shows no crashes and no convictions for moving violations in a CMV.

George E. Lewis

Mr. Lewis, 56, has had a macular scar in his right eye since the 1990s. The visual acuity in his right eye is 20/80, and in his left eye, 20/20. Following an examination in 2013, his ophthalmologist stated, “I do believe this amount of vision would be sufficient vision to perform driving tasks required to operate a commercial vehicle.” Mr. Lewis reported that he has driven tractor-trailer combinations for 27 years, accumulating 3.375 million miles. He holds a Class A CDL from Ohio. His driving record for the last 3 years shows no crashes and no convictions for moving violations in a CMV.

Ronald N. Lindgren

Mr. Lindgren, 61, has had refractive amblyopia in his right eye since childhood. The visual acuity in his right eye is 20/150, and in his left eye, 20/20. Following an examination in 2013, his optometrist stated, “PT [sic] is ok medically to operate a commercial motor vehicle.” Mr. Lindgren reported that he has driven straight trucks for 36.5 years, accumulating 912,500 miles, tractor-trailer combinations for 5 years, accumulating 50,000 miles, and buses for 7 years, accumulating 175,000 miles. He holds a Class A CDL from Minnesota. His driving record for the last 3 years shows no crashes and no convictions for moving violations in a CMV.

James L. Maddox

Mr. Maddox, 72, has complete loss of vision in his left eye due to a traumatic incident in 1975. The visual acuity in his right eye is 20/20, and in his left eye, no light perception. Following an examination in 2014, his optometrist stated, “The patient has sufficient vision in the right eye to perform the driving tasks required to operate a commercial vehicle in my opinion.” Mr. Maddox reported that he has driven straight trucks for 10.5 years, accumulating 147,000 miles. He holds an operator's license from Georgia. His driving record for the last 3 years shows no crashes and no convictions for moving violations in a CMV.

Robert P. Malarkey, Sr.

Mr. Malarkey, 58, has had aphakia in his right eye since childhood. The visual acuity in his right eye is no light perception, and in his left eye, 20/20. Following an examination in 2013, his ophthalmologist stated, “His vision should be sufficient to operate a commercial motor vehicle but the final decision should be made by the Department of Transportation.” Mr. Malarkey reported that he has driven straight trucks for 38 years, accumulating 950,000 miles. He holds a Class BM CDL from New York. His driving record for the last 3 years shows no crashes and no convictions for moving violations in a CMV.

Michael L. Manning

Mr. Manning, 47, has had a total retinal detachment in his right eye since childhood. The visual acuity in his right eye is no light perception, and in his left eye, 20/25. Following an examination in 2014, his optometrist stated, “In my medical opinion Michael will have sufficient vision to perform the driving tasks required to operate a commercial vehicle.” Mr. Manning reported that he has driven tractor-trailer combinations for 25 years, accumulating 375,000 miles. He holds a Class A CDL from Missouri. His driving record for the last 3 years shows no crashes and no convictions for moving violations in a CMV.

Philip D. Mathys

Mr. Mathys, 64, has amblyopia and central corneal scarring in his right eye due to a traumatic incident during childhood. The visual acuity in his right eye is counting fingers, and in his left eye, 20/20. Following an examination in 2013, his optometrist stated, “He has a history of amblyopia since childhood in the right eye from an injury and has lived with this deficit for 60 years. He should not have problems operating a commercial vehicle.” Mr. Mathys reported that he has driven tractor-trailer combinations for 18 years, accumulating 1.22 million miles. He holds a Class A CDL from Ohio. His driving record for the last 3 years shows no crashes and no convictions for moving violations in a CMV.

Rodney J. McMorran

Mr. McMorran, 46, has had a cataract in his left eye since birth. The visual acuity in his right eye is 20/20, and in his left eye, light perception. Following an examination in 2014, his optometrist stated, “It is my understanding Mr. McMorran has demonstrated past proficicency in driving commercially. Most people with congenital vision loss will function much better for almost all vision tasks compared to those that lose vision as adults. People that lose function at an early age like Mr. McMorran adapt head positions and vision cues that compensate for loss in visual field and binocularity. This adaptation, in many cases, would allow them to function at a satisfactory level for commercial driving.” Mr. McMorran reported that he has driven straight trucks for 15 years, accumulating 75,000 miles, and tractor-trailer combinations for 15 years, accumulating 75,000 miles. He holds a Class A CDL from Iowa. His driving record for the last 3 years shows no crashes and no convictions for moving violations in a CMV.

Johnny L. Meese

Mr. Meese, 59, has complete loss of vision in his right eye due to a traumatic incident in childhood. The visual acuity in his right eye is no light perception, and in his left eye, 20/20. Following an examination in 2013, his optometrist stated, “I believe that Mr. Meese has sufficient vision to perform the driving tasks required to operate a commercial vehicle.” Mr. Meese reported that he has driven straight trucks for 20 years, accumulating 100,000 miles, and buses for 3.5 years, accumulating 44,450 miles. He holds a Class A CDL from Missouri. His driving record for the last 3 years shows no crashes and no convictions for moving violations in a CMV.

Corey L. Morman

Mr. Morman, 43, has had a detached retina in his right eye since 2003. The visual acuity in his right eye is no light perception, and in his left eye, 20/20. Following an examination in 2013, his optometrist stated, “I certify that, in my opinion, Mr. Morman has adequate vision to perform the driving tasks required to operate a commercial vehicle.” Mr. Morman reported that he has driven tractor-trailer combinations for 6 years, accumulating 600,000 miles. He holds a Class A CDL from Florida. His driving record for the last 3 years shows no crashes and no convictions for moving violations in a CMV.

Jaime P. Narte, Jr.

Mr. Narte, 59, has had keratoconus in his left eye since 1983. The visual acuity in his right eye is 20/20, and in his left eye, 20/400. Following an examination in 2013, his ophthalmologist stated, “There is no question that Mr. Norte [sic] has sufficient vision to operate a commercial vehicle.” Mr. Narte reported that he has driven tractor-trailer combinations for 7 years, accumulating 350,000 miles. He holds a Class A CDL from Washington. His driving record for the last 3 years shows no crashes and no convictions for moving violations in a CMV.

James M. Nohl

Mr. Nohl, 47, has enucleation in his left eye due to a traumatic incident in 2000. The visual acuity in his right eye is 20/15, and in his left eye, no light perception. Following an examination in 2014, his optometrist stated, “With normal visual acuity and vision fields OD, I feel he has sufficient vision to operate a commercial vehicle.” Mr. Nohl reported that he has driven straight trucks for 4 years, accumulating 187,200 miles. He holds an operator's license from Minnesota. His driving record for the last 3 years shows no crashes and no convictions for moving violations in a CMV.

Thomas G. Ohlson

Mr. Ohlson, 56, has had amblyopia in his left eye since birth. The visual acuity in his right eye is 20/25, and in his left eye, 20/150. Following an examination in 2014, his ophthalmologist stated, “Although the left eye is amblyopic with a best corrected visual acuity of 20/150, it still retains useful vision and contributes to his peripheral vision that is consistent with a fully functioning normal visual field. I would not hesitate to allow him to retain his status as a commercial driver.” Mr. Ohlson reported that he has driven straight trucks for 11 years, accumulating 110,000 miles. He holds an operator's license from New York. His driving record for the last 3 years shows no crashes and no convictions for moving violations in a CMV.

Jason S. Otto

Mr. Otto, 33, has had amblyopia in his right eye since birth. The visual acuity in his right eye is 20/80, and in his left eye, 20/20. Following an examination in 2014, his optometrist stated, “In my medical opinion, the patient has sufficient visual capabilities to perform the tasks required to operate a commercial vehicle.” Mr. Otto reported that he has driven straight trucks for 5.5 years, accumulating 41,250 miles. He holds an operator's license from Kentucky. His driving record for the last 3 years shows no crashes and no convictions for moving violations in a CMV.

Nathan J. Price

Mr. Price, 36, has a macular scar in his left eye due to a traumatic incident that occurred in 2006. The visual acuity in his right eye is 20/20, and in his left eye, 20/600. Following an examination in 2014, his optometrist stated, “Patient has sufficient vision to perform the driving tasks required to operate a commerciail [sic] vehicle and has sufficient color vision for traffic light identification.” Mr. Price reported that he has driven tractor-trailer combinations for 1.7 years, accumulating 34,000 miles. He holds a Class A CDL from Idaho. His driving record for the last 3 years shows no crashes and no convictions for moving violations in a CMV.

Robert D. Reeder

Mr. Reeder, 55, has had amblyopia secondary to strabismus in his right eye since childhood. The visual acuity in his right eye is 5/400, and in his left eye, 20/25. Following an examination in 2014, his optometrist stated, “In my opinion Mr. Reeder has sufficient vision to perform the driving tasks required to operate a commercial vehicle.” Mr. Reeder reported that he has driven tractor-trailer combinations for 9 years, accumulating 675,000 miles. He holds a Class CA CDL from Michigan. His driving record for the last 3 years shows no crashes and no convictions for moving violations in a CMV.

Ricky L. Rice

Mr. Rice, 49, has complete loss of vision in his left eye due to a traumatic incident in 1988. The visual acuity in his right eye is 20/20, and in his left eye, no light perception. Following an examination in 2014, his optometrist stated that, in his medical opinion, Mr. Rice does have sufficient vision to operate a commercial motor vehicle. Mr. Rice reported that he has driven straight trucks for 7 years, accumulating 612,500 miles, and tractor-trailer combinations for 15 years, accumulating 1.313 million miles. He holds a Class A CDL from Pennsylvania. His driving record for the last 3 years shows no crashes and no convictions for moving violations in a CMV.

Johnnie K. Richard

Mr. Richard, 53, has had retinal scarring in his left eye due to a traumatic incident in 1983. The visual acuity in his right eye is 20/15, and in his left eye, 20/100. Following an examination in 2013, his optometrist stated, “It is my professional opinion that Mr. Richard has sufficient vision to operate a commercial vehicle.” Mr. Richard reported that he has driven tractor-trailer combinations for 30 years, accumulating 1.8 million miles. He holds a Class A CDL from Louisiana. His driving record for the last 3 years shows no crashes and no convictions for moving violations in a CMV.

Jorge L. Y. Rivera

Mr. Rivera, 28, has had exotropia with amblyopia and keratoconus in his left eye since childhood. The visual acuity in his right eye is 20/20, and in his left eye, 20/70. Following an examination in 2014, his optometrist stated that, in his medical opinion, Mr. Rivera does have sufficient vision to operate a commercial motor vehicle. Mr. Rivera reported that he has driven straight trucks for 6 years, accumulating 30,000 miles, and tractor-trailer combinations for 1 year, accumulating 3,000 miles. He holds a Class A CDL from California. His driving record for the last 3 years shows no crashes and no convictions for moving violations in a CMV.

Craig Robinson

Mr. Robinson, 53, has a macular hole in his left eye due to a traumatic incident in 1984. The visual acuity in his right eye is 20/20, and in his left eye, 20/200. Following an examination in 2014, his ophthalmologist stated, “I, Carl Danzig, MD, state that in my best medical opinion Craig Robinson has significant vision to perform the driving tasks required to operate a commercial vehicle.” Mr. Robinson reported that he has driven tractor-trailer combinations for 5 years, accumulating 175,000 miles. He holds a Class A CDL from Florida. His driving record for the last 3 years shows no crashes and no convictions for moving violations in a CMV.

Michael E. Schlachter

Mr. Schlachter, 23, has had amblyopia in his left eye since birth. The visual acuity in his right eye is 20/15, and in his left eye, 20/50. Following an examination in 2013, his optometrist stated, “Mr. Schlachter has sufficient vision and visual skills to safely operate a commercial vehicle.” Mr. Schlachter reported that he has driven straight trucks for 1 year, accumulating 4,000 miles. He holds a Class AM CDL from Wyoming. His driving record for the last 3 years shows no crashes and no convictions for moving violations in a CMV.

Kenneth W. Sigl

Mr. Sigl, 48, has had a macular hole, epiretinal membrane, and a cataract in his left eye since 2006. The visual acuity in his right eye is 20/20, and in his left eye, 20/70. Following an examination in 2013, his ophthalmologist stated that, in his medical opinion, Mr. Sigl does have sufficient vision to operate a commercial motor vehicle. Mr. Sigl reported that he has driven straight trucks for 22 years, accumulating 110,000 miles. He holds a Class ABCDM CDL from Wisconsin. His driving record for the last 3 years shows no crashes and no convictions for moving violations in a CMV.

Robert A. Simpson

Mr. Simpson, 62, has had amblyopia in his right eye since birth. The visual acuity in his right eye is 20/200, and in his left eye, 20/20. Following an examination in 2013, his optometrist stated, “At this time his best corrected visual acuities are 20/200 right eye and 20/20 left eye . . . Mr. Simpson states he has been driving commercially for about 18 years accident free. Based solely on his solid driving record and visual field results, I believe his vision should allow him to continue along his career path.” Mr. Simpson reported that he has driven straight trucks for 18 years, accumulating 540,000 miles. He holds a Class A CDL from Mississippi. His driving record for the last 3 years shows no crashes and no convictions for moving violations in a CMV.

Jeffrey L. Singley

Mr. Singley, 57, has had congenital retinal damage and coloboma in his right eye since birth. The visual acuity in his right eye is 20/400, and in his left eye, 20/20. Following an examination in 2013, his optometrist stated, “In my opinion Mr. Singley has sufficient vision to perform commercial driving tasks.” Mr. Singley reported that he has driven straight trucks for 3 years, accumulating 60,000 miles. He holds an operator's license from Maryland. His driving record for the last 3 years shows no crashes and no convictions for moving violations in a CMV.

Dennis Torrence

Mr. Torrence, 52, has a central retinal artery occlusion in his left eye since 2009. The visual acuity in his right eye is 20/20, and in his left eye, 20/300. Following an examination in 2013, his optometrist stated, “I do not foresee any problems with him driving commercially in regard to his visual status.” Mr. Torrence reported that he has driven straight trucks for 6 years, accumulating 240,000 miles, and tractor-trailer combinations for 22 years, accumulating 2.2 million miles. He holds a Class ABCD CDL from Wisconsin. His driving record for the last 3 years shows no crashes and no convictions for moving violations in a CMV.

Julie J. Walsh

Ms. Walsh, 40, has had a congenital cataract in her left eye since birth. The visual acuity in her right eye is 20/20, and in her left eye, light perception. Following an examination in 2013, her optometrist stated, “She is able to safely perform driving tasks with her right eye vision.” Ms. Walsh reported that she has driven straight trucks for 1 year, accumulating 10,000 miles. She holds an operator's license from North Dakota. Her driving record for the last 3 years shows no crashes and no convictions for moving violations in a CMV.

Michael T. Wimber

Mr. Wimber, 47, has glaucoma in his left eye due to a traumatic incident in childhood. The visual acuity in his right eye is 20/20, and in his left eye, hand motion. Following an examination in 2013, his optometrist stated, “In my medical option [sic] his vision is sufficient to perform the driving tasks require [sic] to operate a commercial vehicle.” Mr. Wimber reported that he has driven straight trucks for 7 years, accumulating 700,000 miles, and tractor-trailer combinations for 7 years, accumulating 700,000 miles. He holds a Class A CDL from Montana. His driving record for the last 3 years shows no crashes and 1 conviction for a moving violation in a CMV; he exceeded the speed limit by 10 mph.

Elmer F. Winters

Mr. Winters, 65, has had amblyopia and retinoschisis in his left eye since childhood. The visual acuity in his right eye is 20/20, and in his left eye, 20/60. Following an examination in 2013, his optometrist stated, “In conclusion, Mr. Winters has an amblyopic left eye that is well documented, retinoschisis that has also been well documented, and I see no added risk of driving or operating a commercial vehicle.” Mr. Winters reported that he has driven straight trucks for 10 years, accumulating 50,000 miles, and tractor-trailer combinations for 38 years, accumulating 2.28 million miles. He holds a Class A CDL from North Carolina. His driving record for the last 3 years shows no crashes and no convictions for moving violations in a CMV.

Theodore R. Wolden

Mr. Wolden, 38, has had congenital amblyopia in his left eye since childhood. The visual acuity in his right eye is 20/20, and in his left eye, 20/200. Following an examination in 2014, his optometrist stated, “In summary, Mr. Wolden has myopia with astigmatism in both eyes with mild, longstanding, stable central suppression in the left eye. He has full field of view with both eyes and no limitation to his ability to operate a commercial vehicle.” Mr. Wolden reported that he has driven straight trucks for 10 years, accumulating 250,000 miles, and tractor-trailer combinations for 10 years, accumulating 250,000 miles. He holds a Class A CDL from Minnesota. His driving record for the last 3 years shows no crashes and no convictions for moving violations in a CMV.

Eugene T. Wolf

Mr. Wolf, 73, has had amblyopia in his left eye since birth. The visual acuity in his right eye is 20/20, and in his left eye, 20/200. Following an examination in 2014, his optometrist stated, “It is my opinion, therefore, that Gene Wolf has sufficient vision to safely perform the vision tasks required to continue to operate a commercial vehicle.” Mr. Wolf reported that he has driven tractor-trailer combinations for 55 years, accumulating 6.4 million miles. He holds a Class A CDL from Iowa. His driving record for the last 3 years shows 1 crash, for which he was cited, and 1 conviction for a moving violation in a CMV; he exceeded the speed limit by 10 mph.

Duane R. Yoder

Mr. Yoder, 28, has had amblyopia and anisometropia in his left eye since childhood. The visual acuity in his right eye is 20/20, and in his left eye, 20/60. Following an examination in 2013, his ophthalmologist stated that, in his medical opinion, Mr. Yoder has sufficient vision to operate a commercial motor vehicle. Mr. Yoder reported that he has driven straight trucks for 5 years, accumulating 175,000 miles. He holds an operator's license from Indiana. His driving record for the last 3 years shows no crashes and no convictions for moving violations in a CMV.

Request for Comments

In accordance with 49 U.S.C. 31136(e) and 31315, FMCSA requests public comment from all interested persons on the exemption petitions described in this notice. The Agency will consider all comments received before the close of business May 1, 2014. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Submitting Comments

You may submit your comments and material online or by fax, mail, or hand delivery, but please use only one of these means. FMCSA recommends that you include your name and a mailing address, an email address, or a phone number in the body of your document so that FMCSA can contact you if there are questions regarding your submission.

To submit your comment online, go to http://www.regulations.gov and in the search box insert the docket number FMCSA-2014-0004 and click the search button. When the new screen appears, click on the blue “Comment Now!” button on the right hand side of the page. On the new page, enter information required including the specific section of this document to which each comment applies, and provide a reason for each suggestion or recommendation. If you submit your comments by mail or hand delivery, submit them in an unbound format, no larger than 8½ by 11 inches, suitable for copying and electronic filing. If you submit comments by mail and would like to know that they reached the facility, please enclose a stamped, self-addressed postcard or envelope.

We will consider all comments and material received during the comment period and may change this proposed rule based on your comments. FMCSA may issue a final rule at any time after the close of the comment period.

Viewing Comments and Documents

To view comments, as well as any documents mentioned in this preamble, To submit your comment online, go to http://www.regulations.gov and in the search box insert the docket number FMCSA-2014-0004 and click “Search.” Next, click “Open Docket Folder” and you will find all documents and comments related to the proposed rulemaking.

Issued on: March 18, 2014.
Larry W. Minor,
Associate Administrator for Policy.

[FR Doc. 2014-07215 Filed 3-31-14; 8:45 am]

BILLING CODE 4910-EX-P